Proclamation 9313 of August 31, 2015

National Preparedness Month, 2015

By the President of the United States of America

A Proclamation

Every year, communities across our country face emergencies—from unforeseen natural disasters to deliberate acts—that test our Nation's grit and challenge us to overcome tragedy. While my Administration is working to keep all Americans safe, each of us can do our part. Together, we can protect our families and help our communities by planning for emergencies and for the unexpected. Every September, we celebrate our Nation's spirit of resilience by rededicating ourselves to the important task of being prepared in the face of any crisis.

Emergencies come in many forms—from house fires to accidents to hurricanes—and can strike anywhere in America. We cannot always control how, when, or where they occur, but we can prepare practical responses before disasters strike. By discussing with our families, friends, and neighbors how we will protect ourselves and our communities, we can contribute to and share in a stronger, more resilient society. The theme of this year's National Preparedness Month is “Don't Wait. Communicate. Make Your Emergency Plan Today.” This month, I encourage all Americans to bolster their readiness in the event of a crisis. To learn more about the disasters common to where you live, the resources available in your area, and how to prepare, visit www.Ready.gov or www.Listo.gov.

When emergencies happen, our Nation must ensure that communities have the support and resources they need to respond and recover. Since taking office, I have worked hard to expedite the recovery and rebuilding efforts in areas impacted by disaster. As we commemorate the 10th anniversary of Hurricane Katrina, my Administration remains focused on addressing the needs of survivors, investing in hard-hit neighborhoods, and ensuring those affected are able to rebuild with greater confidence, optimism, and resilience. My Administration has always been dedicated to coordinating readiness and relief efforts between Federal agencies, organizations, corporations, and local partners—because together, with a united approach, we can lift up communities and help them emerge stronger.

No challenge poses a greater threat to our future than climate change. Cities along our Eastern seaboard now flood at high tide, and in the West, wildfire season now lasts most of the year. Some communities are parched by the worst drought in generations, while others have been drenched by unprecedented rainfall. Our climate is changing quickly, and it poses a threat to our Nation's safety and security. That is why we must work toward a sound environment today, and why my Administration is committed to pursuing clean energy through initiatives like the Clean Power Plan. Additionally, as part of my Climate Action Plan, we are committed to building infrastructure that can withstand more frequent and powerful natural disasters and to supporting our communities—including low-income, minority, and tribal communities—as they prepare for these impacts. Together, by ensuring everyone understands the dangers of climate change and by making responsible choices, we can secure a cleaner, safer world for future generations.

On September 30, people from cities and towns in all corners of our Nation will join with the Federal Government to take action as part of America's PrepareAthon! I urge Americans to make a plan and participate in this important opportunity to increase their own preparedness. During National Preparedness Month, let us all renew our commitment to ready ourselves, our families, and our communities for any challenge.

NOW, THEREFORE, I, BARACK OBAMA, President of the United States of America, by virtue of the authority vested in me by the Constitution and the laws of the United States, do hereby proclaim September 2015 as National Preparedness Month. I encourage all Americans to recognize the importance of preparedness and work together to enhance our resilience and readiness.

IN WITNESS WHEREOF, I have hereunto set my hand this thirty-first day of August, in the year of our Lord two thousand fifteen, and of the Independence of the United States of America the two hundred and fortieth.

[FR Doc. 2015-22331

Filed 9-2-15; 11:15 am]

Billing code 3295-F5